DEPARTMENT OF ENERGY

Federal Energy Regulatory Commission

Notice of Application for Amendment of License and Soliciting Comments, Motions To Intervene, and Protests

July 25, 2005.

Take notice that the following application has been filed with the Commission and is available for public inspection:

a. Application Type: Amendment of license to delete certain transmission lines.

b. Project No: 1971-096.

c. Date Filed: June 13, 2005.

d. Applicant: Idaho Power Company.

e. Name of Project: Hells Canyon.

f. Location: The project is located on the Snake River in Ada, Adam, Boise, Gem and Washington Counties, Idaho.

g. Filed Pursuant to: Federal Power Act, 16 U.S.C. 791a-825r.

h. Applicant Contacts: Tom R. Saldin, Senior Vice President, Secretary and General Counsel, Idaho Power Company, 1221 West Idaho Street, PO Box 70, Boise, ID 83707; or Nathan F. Gardiner, Attorney, Idaho Power Company, 1221 West Idaho Street, PO Box 70, Boise, ID 83707.

i. FERC Contact: Any questions on this notice should be addressed to Mr. Hong Tung at (202) 502-8757, or e-mail address: hong.tung@ferc.gov.

j. Deadline for filing comments and or motions: August 29, 2005.

k. Description of Request: The licensee requests that the following transmission lines be deleted from the license: The Oxbow-Brownlee Line, the Oxbow-Pallette Junction-Hells Canyon Line, the Pallette Junction-Imnaha Line, the Boise-Brownlee-Baker Line, the Brownlee-Boise Bench Nos. 3 and 4 Lines, and the Pallette Junction-Enterprise Line. The licensee states that none of the transmission lines identified above are used solely to transmit power from licensed projects to load centers; in addition, they are used to import power to and/or wheel power through the licensee's electric system. The licensee also states that the transmission lines would be deleted from the license, but would remain in place.

l. Locations of Applications: A copy of the application is available for inspection and reproduction at the Commission in the Public Reference Room, located at 888 First Street NE., Room 2A, Washington DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call toll-free 1-866-208-3676 or e-mail FERCOnlineSupport@ferc.gov. For TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. All documents (original and eight copies) should be filed with: Magalie R. Salas, Secretary, Federal Energy Regulatory Commission, 888 First Street, NE., Washington DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E5-4161 Filed 8-2-05; 8:45 am]

BILLING CODE 6717-01-P